NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 18, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Army, Agency-wide (N1-AU-09-19, 1 item, 1 temporary item). Master files associated with an electronic information system that supports the development of training plans.

2. Department of the Army, Agency-wide (N1-AU-09-26, 1 item, 1 temporary item). Master files associated with an electronic information system that contains data on simulated battle environments and scenarios and is used to supplement live training exercises.

3. Department of Commerce, National Oceanic and Atmospheric Administration (N1-370-09-1, 2 items, 2 temporary items). Case files on individual divers that include training, certification, and medical records.

4. Department of Health and Human Services, Food and Drug Administration (N1-88-09-2, 19 items, 19 temporary items). Field office work plans and accomplishment reports, records related to commissioning state and local officials to perform regulatory inspections and investigations, copies of state commissioning program contract and grant records, records documenting evaluations of state inspectors, records relating to the Shelf Life Extension and Government-wide Quality Assurance programs, notes taken by inspectors during inspections, and records relating to laboratory proficiency testing.

5. Department of Homeland Security, Agency-wide (N1-563-09-7, 3 items, 3 temporary items). Data relating to lawful permanent residents of the United States which is no longer needed.

6. Department of Homeland Security, Office of the General Counsel (N1-563-09-6, 4 items, 4 temporary items). Case files on information law and intellectual property issues, such as patent and trademarks, copyright, and trade secrets.

7. Department of Homeland Security, Privacy Office (N1-563-09-5, 3 items, 3 temporary items). Privacy impact assessments, privacy threshold analyses, and system of records notices.

8. Department of the Interior, National Park Service (N1-79-08-6, 4 items, 2 temporary items). Records relating to routine partnership relationships and administration of the partnership program. Proposed for permanent retention are records relating to the planning and development of partnership policies and programs as well as case files and other records that document significant and/or long-term partnerships.

9. Department of Justice, Civil Rights Division (N1-60-08-20, 3 items, 1 temporary item). Land use case files generated under the Religious Land Use and Institutionalized Persons Act of 2000 that do not go beyond the pre-investigative stage. Proposed for permanent retention are land use case files that go further than this stage as well as all appellate files.

10. Department of Justice, Federal Bureau of Investigation (N1-65-09-9, 1 item, 1 temporary item). Information collected under an order of the Foreign Intelligence Surveillance Court that was collected in error.

11. Department of Justice, Federal Bureau of Investigation (N1-65-09-10, 4 items, 4 temporary items). Training and certification records maintained by the Laboratory Division's latent print unit.

12. Department of Transportation, Federal Highway Administration (N1-406-08-4, 17 items, 17 temporary items). Records of the Office of Civil Rights, including such records as administrative files, affirmative action plans, budget files, training materials, complaint files, and records relating to Title VI implementation.

13. Department of Transportation, Federal Highway Administration (N1-406-08-6, 17 items, 13 temporary items). Records of the Office of Research, Development, and Technology, including such records as working files, drafts, correspondence, research files, routine drawings, copies of forensic files, uncaptioned photographs, and technical files. Proposed for permanent retention are such records as record copies of Public Roads Magazine, captioned photographs, and published technical reports.

14. Department of Transportation, Federal Highway Administration (N1-406-08-10, 30 items, 29 temporary items). Records of the Office of the Chief Financial Officer, including such records as administrative files, budget files, financial management files, and other files relating to appropriations, disbursements, and transactions. Master files of the Fiscal Management Information System, which contains data on Federally funded highway projects, are proposed for permanent retention.

15. Department of the Treasury, Internal Revenue Service (N1-58-09-11, 1 item, 1 temporary item). Master files of an electronic information system used to identify and assess penalties against taxpayers who fail to provide accurate taxpayer identification numbers.

16. Department of the Treasury, Internal Revenue Service (N1-58-09-14, 1 item, 1 temporary item). Master files of an electronic information system used to measure results of the Earned Income Tax Credit (EITC) and non-EITC research initiatives.

17. Department of the Treasury, Internal Revenue Service (N1-58-09-15, 3 items, 3 temporary items). Inputs, outputs, and master files of an electronic information system that contains data concerning certain small businesses in California.

18. Department of the Treasury, Internal Revenue Service (N1-58-09-16, 1 item, 1 temporary item). Electronic records containing taxpayer name, address, social security number, and latest tax year information.

19. Department of the Treasury, Internal Revenue Service (N1-58-09-17, 1 item, 1 temporary item). Lists and extracts containing data on individuals who did not itemize deductions on their Federal income tax return that is used to allow states to identify those to whom they need not issue Form 1099-G.

20. Department of the Treasury, Internal Revenue Service (N1-58-09-18, 1 item, 1 temporary item). Electronic data on taxpayers which is provided to states for child support enforcement purposes.

21. Department of the Treasury, Internal Revenue Service (N1-58-09-19, 1 item, 1 temporary item). Electronic data provided to the Department of Labor to identify employers who misclassify employees as independent contractors.

22. Department of the Treasury, Internal Revenue Service (N1-58-09-20, 1 item, 1 temporary item). Master files of an electronic information system used to match delinquent Federal tax accounts against a database of recipients of state tax refunds.

23. Department of the Treasury, Internal Revenue Service (N1-58-09-21, 2 items, 2 temporary items). Master files and outputs of an electronic information system used to identify individuals who claim Medicare benefits but also are employed and have medical benefits.

24. Department of the Treasury, Internal Revenue Service (N1-58-09-22, 1 item, 1 temporary item). Electronic data concerning taxpayers provided to states for their use for compliance purposes.

25. Department of the Treasury, Internal Revenue Service (N1-58-09-23 1 item, 1 temporary item). Electronic data containing zip code and social security number information which is provided to states for compliance purposes.

26. Department of the Treasury, Internal Revenue Service (N1-58-09-24, 1 item, 1 temporary item). Electronic data relating to business tax returns, extracted from certain IRS tax forms.

27. Environmental Protection Agency, Agency-wide (N1-412-09-1, 2 items, 1 temporary item). Working data contained in an electronic information system used to manage the agency's budget processes. Final data is proposed for permanent retention, including submissions for the Office of Management and Budget, the President's budget, and congressional budget justifications.

28. Environmental Protection Agency, Office of Water (N1-412-08-5, 2 items, 1 temporary item). Project working papers and administrative correspondence generated or gathered during method development in support of the agency's direct Federal implementation of drinking water programs under the Safe Drinking Water Act. Proposed for permanent retention are Lab Approval Program and Method Development records required under the Safe Drinking Water Act that may be used as a basis for regulatory decisions or the elevation of regulatory priorities related to drinking water programs.

29. Equal Employment Opportunity Commission, Office of Communications and Legislative Affairs (N1-403-09-1, 3 items, 2 temporary items). Biographical information relating to Presidential nominations of members of the Commission and the agency General Counsel as well as briefing books relating to such nominations. Proposed for permanent retention are files relating to pending and proposed legislation.

Dated: May 14, 2009.
Michael J. Kurtz,
Assistant Archivist for Records Services—Washington, DC.

[FR Doc. E9-11756 Filed 5-18-09; 8:45 am]

BILLING CODE 7515-01-P